DEPARTMENT OF COMMERCE

International Trade Administration

[A-489-501]

Notice of Final Results of Antidumping Duty Administrative Review: Certain Welded Carbon Steel Pipe and Tube from Turkey

AGENCY: Import Administration, International Trade Administration, Department of Commerce.

ACTION: Notice of Final Results of Antidumping Duty Administrative Review: Certain Welded Carbon Steel Pipe and Tube from Turkey.

SUMMARY: On June 7, 2005, the Department of Commerce (“the Department”) published the preliminary results of its administrative review of the antidumping duty order on certain welded carbon steel pipe and tube (“welded pipe and tube”) from Turkey. This review covers two producers/exporters of the subject merchandise. The period of review (“POR”) is May 1, 2003, through April 30, 2004. Based on our analysis of the comments received, these final results differ from the preliminary results. The final results are listed below in the Final Results of Review section.

EFFECTIVE DATE: December 12, 2005.

FOR FURTHER INFORMATION CONTACT: Christopher Hargett, George McMahon, or Jim Terpstra, AD/CVD Operations, Office 3, Import Administration, International Trade Administration, U.S. Department of Commerce, 14th Street and Constitution Avenue, NW, Washington, DC 20230; telephone: (202) 482-4161, (202) 482-1167 or (202) 482-3965, respectively.

SUPPLEMENTARY INFORMATION:

Background

This review covers two producers/exporters of the subject merchandise: (1) the Yücel Group (“Yücel”), which includes Çayirova Boru Sanayi ve Ticaret A.S. and its affiliate, Yücel Boru Ithalat-Ihracat ve Pazarlama A.S. (collectively referred to as “Çayirova”) and (2) the Borusan Group (“Borusan”).¹ On June 7, 2005, the Department published the preliminary results of this review and invited interested parties to comment on those results.² On July 21, 2005, we received case briefs from Çayirova, Borusan, and domestic interested parties.³ On July 28, 2005, we received rebuttal briefs from the same parties. A public hearing was held on August 4, 2005.⁴

¹ The Borusan Group includes Borusan Birlesik Boru Fabrikalari A.S., Mannesmann Boru End strisi T.A.S., Borusan Mannesmann Boru Sanayii ve Ticaret A.S., and Istikbal Ticaret T.A.S.

² Notice of Preliminary Results of Antidumping Administrative Review: Ceratin Welded Carbon Steel Pipe and Tube from Turkey, 70 FR 33084 (June 7, 2005).

³ Petitioners are Allied Tube and Conduit Corporation, and Wheatland Tube Company.

⁴ A copy of the transcript of the hearing is available in the Cental Records Unit (“CRU”) of the Department.

Scope of the Order

The products covered by this order include circular welded non-alloy steel pipes and tubes, of circular cross-section, not more than 406.4 millimeters (16 inches) in outside diameter, regardless of wall thickness, surface finish (black, or galvanized, painted), or end finish (plain end, beveled end, threaded and coupled). Those pipes and tubes are generally known as standard pipe, though they may also be called structural or mechanical tubing in certain applications. Standard pipes and tubes are intended for the low pressure conveyance of water, steam, natural gas, air, and other liquids and gases in plumbing and heating systems, air conditioner units, automatic sprinkler systems, and other related uses. Standard pipe may also be used for light load-bearing and mechanical applications, such as for fence tubing, and for protection of electrical wiring, such as conduit shells.

The scope is not limited to standard pipe and fence tubing, or those types of mechanical and structural pipe that are used in standard pipe applications. All carbon steel pipes and tubes within the physical description outlined above are included in the scope of this order, except for line pipe, oil country tubular goods, boiler tubing, cold-drawn or cold-rolled mechanical tubing, pipe and tube hollows for redraws, finished scaffolding, and finished rigid conduit.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and customs purposes, our written description of the scope of this proceeding is dispositive.

Analysis of Comments Received

All issues raised in the case and rebuttal briefs by parties to this review are addressed in the “Issues and Decision Memorandum for the Final Results of the Administrative Review of the Antidumping Duty Order on Certain Welded Carbon Steel Pipe and Tube from Turkey” from Stephen J. Claeys, Deputy Assistant Secretary for Import Administration, to Joseph A. Spetrini, Acting Assistant Secretary for Import Administration, dated December 5, 2005 (“Decision Memorandum”), which is hereby adopted by this notice.

A list of the issues which parties have raised and to which we have responded, all of which are addressed in the Decision Memorandum, is attached to this notice as an Appendix. Parties can find a complete discussion of all issues raised in this review and the corresponding recommendation in the Decision Memorandum, which is on file in the CRU, room B-099 of the main Department of Commerce building.

In addition, a complete version of the Decision Memorandum can be accessed directly on the Internet at http://ia.ita.doc.gov/frn. The paper copy and electronic version of the Decision Memorandum are identical in content.

Fair Value Comparisons

We calculated export price (“EP”) and normal value (“NV”) based on the same methodology used in the preliminary results, except for changes detailed in the Decision Memorandum. For Çayirova, we have made the contract date as the date of sale, changed the weighting factors matching home market and U.S. market sales, and applied the countervailing duty adjustment.⁵ For Borusan, we have restored certain U.S. and home market sales.⁶

⁵ Decision Memorandum, December 5, 2005, at comments 1, 3 and 4.

⁶ Id., at comment 5.

Cost of Production

We calculated the cost of production (“COP”) for the merchandise based on the same methodology used in the preliminary results.

Final Results of Review

As a result of our review, we determine that the following weighted-average percentage margins exist for the period May 1, 2003, through April 30, 2004:

Manufacturer/Exporter | Margin (percent)
Borusan | 0.86
Çayirova | 3.52

The Department shall determine, and the U.S. Customs and Border Protection (“CBP”) shall assess, antidumping duties on all appropriate entries. In accordance with section 351.212(b)(1) of the Department's regulations, we have calculated importer-specific assessment rates by dividing the dumping margin found on the subject merchandise examined by the entered value of such merchandise. Where the importer-specific assessment rate is above de minimis we will instruct CBP to assess antidumping duties on that importer's entries of subject merchandise. The Department will issue appropriate assessment instructions directly to CBP within 15 days of publication of these final results of review.

Furthermore, the following deposit requirements will be effective for all shipments of the subject merchandise entered, or withdrawn from warehouse, for consumption on or after the publication date of these final results of administrative review, as provided by section 751(a) of the Tariff Act of 1930, as amended (“the Act”): (1) for the companies named above, the cash deposit rate will be the rate listed above, except where the margin is zero or de minimis no cash deposit will be required; (2) for merchandise exported by manufacturers or exporters not covered in this review but covered in a previous segment of this proceeding, the cash deposit rate will continue to be the company-specific rate published in the most recent final results in which that manufacturer or exporter participated; (3) if the exporter is not a firm covered in this review or in any previous segment of this proceeding, but the manufacturer is, the cash deposit rate will be that established for the manufacturer of the merchandise in these final results of review or in the most recent segment of the proceeding in which that manufacturer participated; and (4) if neither the exporter nor the manufacturer is a firm covered in this review or in any previous segment of this proceeding, the cash deposit rate will be 14.74 percent, the “All-others” rate established in the less-than-fair-value investigation. These deposit requirements shall remain in effect until publication of the final results of the next administrative review.

This notice also serves as a final reminder to importers of their responsibility under section 351.402(f) of the Department's regulations to file a certificate regarding the reimbursement of antidumping and countervailing duties prior to liquidation of the relevant entries during this review period. Failure to comply with this requirement could result in the Secretary's presumption that reimbursement of antidumping and countervailing duties occurred, and in the subsequent assessment of antidumping duties increased by the amount of antidumping and/or countervailing duties reimbursed.

This notice also is the only reminder to parties subject to administrative protective order (“APO”) of their responsibility concerning the return/destruction or conversion to judicial protective order of proprietary information disclosed under APO in accordance with section 351.305(a)(3) of the Department's regulations. Failure to comply is a violation of the APO.

This determination is issued and published in accordance with sections 751(a)(1) and 777(i)(1) of the Act.

Dated: December 5, 2005.
Joseph A. Spetrini,
Acting Assistant Secretary for Import Administration.

APPENDIX

List of Comments in the Issues and Decision Memorandum

Comment 1: Date of Sale

Comment 2: ASTM Pipe in the Home Market

Comment 3: Weighting Factors in the Model Match Program

Comment 4: CVD Adjustment

Comment 5: Certain United States and Home Market Sales

Comment 6: Cash Deposit Rate

Comment 7: Duty Drawback

Comment 8: Test for Below-Cost Sales

[FR Doc. 05-23923 Filed 12-9-05; 8:45 am]

BILLING CODE 3510-DS-S